DEPARTMENT OF LABOR

Employment and Training Administration

[TA-W-37,973 AND NAFTA-4064]

General Motors Corporation Desert Proving Ground Mesa, Arizona; Dismissal of Application for Reconsideration

Pursuant to 29 CFR 90.18(C) an application for administrative reconsideration was filed with the Director of the Division of Trade Adjustment Assistance for workers at General Motors Corporation, Desert Proving Ground, Mesa, Arizona. The application contained no new substantial information which would bear importantly on the Department's determination. Therefore, dismissal of the application was issued.

TA-W-37,973 and NAFTA-4064; General Motors Corporation Desert Proving Ground, Mesa, Arizona (October 4, 2000)

Signed at Washington, D.C. this 5th day of October, 2000.
Linda G. Poole,
Certifying Officer, Division of Trade Adjustment Assistance.

[FR Doc. 00-26158 Filed 10-11-00; 8:45 am]

BILLING CODE 4510-30-M